DEPARTMENT OF ENERGY

Federal Energy Regulatory Commission

Combined Notice of Filings #1

Take notice that the Commission received the following electric corporate filings:

Docket Numbers: EC20-59-000.

Applicants: PurEnergy II, LLC, Orion Acquisitions, LLC.

Description: Response to August 27, 2020 Deficiency Letter of Orion Acquisitions, LLC.

Filed Date: 9/8/20.

Accession Number: 20200908-5213.

Comments Due: 5 p.m. ET 9/18/20.

Take notice that the Commission received the following electric rate filings:

Docket Numbers: ER20-644-001.

Applicants: Southwest Power Pool, Inc.

Description: Compliance filing: Fast-Start Pricing Practices Compliance Filing in Response to July 2020 Order to be effective 5/18/2022.

Filed Date: 9/14/20.

Accession Number: 20200914-5065.

Comments Due: 5 p.m. ET 10/5/20.

Docket Numbers: ER20-1593-001; ER20- 1596-001; ER20-1597-001; ER20-1599-001; ER20-1594-001.

Applicants: Highlander Solar Energy Station 1, LLC, Pleinmont Solar 1, LLC, Pleinmont Solar 2, LLC, Richmond Spider Solar, LLC, Highlander IA, LLC.

Description: Notice of Non-Material Change in Status of Highlander Solar Energy Station 1, LLC, et al.

Filed Date: 9/11/20.

Accession Number: 20200911-5339.

Comments Due: 5 p.m. ET 10/2/20.

Docket Numbers: ER20-2872-000.

Applicants: PJM Interconnection, L.L.C.

Description: § 205(d) Rate Filing: Amendment to ISA, SA No. 5612; Queue No. AF1-185 to be effective 3/10/2020.

Filed Date: 9/14/20.

Accession Number: 20200914-5053.

Comments Due: 5 p.m. ET 10/5/20.

Docket Numbers: ER20-2873-000.

Applicants: PJM Interconnection, L.L.C.

Description: § 205(d) Rate Filing: Amendment to ISA, SA No. 3989; Queue No. Y2-079 to be effective 9/3/2014.

Filed Date: 9/14/20.

Accession Number: 20200914-5056.

Comments Due: 5 p.m. ET 10/5/20.

Docket Numbers: ER20-2874-000.

Applicants: Horizon West Transmission, LLC.

Description: Compliance filing: Horizon West Transmission, LLC Depreciation Rate Filing to be effective 9/15/2020.

Filed Date: 9/14/20.

Accession Number: 20200914-5077.

Comments Due: 5 p.m. ET 10/5/20.

Docket Numbers: ER20-2875-000.

Applicants: Southwest Power Pool, Inc.

Description: Compliance filing: Compliance Filing in Response to Order issued in EL19-80-000 to be effective 6/11/2019.

Filed Date: 9/14/20.

Accession Number: 20200914-5084.

Comments Due: 5 p.m. ET 10/5/20.

Docket Numbers: ER20-2876-000.

Applicants: PJM Interconnection, L.L.C.

Description: § 205(d) Rate Filing: Original ISA, SA No. 5749; Queue No. AB1-105 to be effective 8/18/2020.

Filed Date: 9/14/20.

Accession Number: 20200914-5100.

Comments Due: 5 p.m. ET 10/5/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2020.
Nathaniel J. Davis, Sr.,
Deputy Secretary.

[FR Doc. 2020-20618 Filed 9-17-20; 8:45 am]

BILLING CODE 6717-01-P